DEPARTMENT OF COMMERCE

International Trade Administration

[C-570-913]

Certain New Pneumatic Off-the-Road Tires From the People's Republic of China: Amended Final Results of Countervailing Duty Administrative Review, 2014

AGENCY: Enforcement and Compliance, International Trade Administration, Department of Commerce.

SUMMARY: The Department of Commerce (the Department) is amending the final results of the countervailing duty administrative review of certain new pneumatic off-the-road tires from the People's Republic of China (PRC) to correct certain ministerial errors. The period of review (POR) is January 1, 2014, through December 31, 2014.

DATES: Applicable August 25, 2017.

FOR FURTHER INFORMATION CONTACT: Chien-Min Yang or Jack Zhao, AD/CVD Operations, Office VII, Enforcement and Compliance, International Trade Administration, U.S. Department of Commerce, 1401 Constitution Avenue NW., Washington, DC 20230; telephone: 202-482-5484 and 202-482-1396, respectively.

SUPPLEMENTARY INFORMATION:

Background

In accordance with sections 751(a)(1) of the Tariff Act of 1930, as amended (the Act), and 19 CFR 351.221(b)(5), on April 18, 2017, the Department published its final results in the countervailing duty administrative review of certain new phenumatic off-the-road tires from the PRC.¹ Titan Tire Corporation (Titan) and the United Steel, Paper and Forestry, Rubber, Manufacturing, Energy, Allied Industrial and Service Workers International Union, AFL-CIO-CLC (the USW) (collectively, the petitioners) and Xuzhou Xugong Tyres Co. Ltd. (Xuzhou Xugong) timely alleged ministerial errors on April 21 and 24, 2017.² Xuzhou Xugong, the petitioners, and Guizhou Tyre Co., Ltd. (Guizhou Tyre) timely filed rebuttal comments on April 26 and 28, 2017.³

¹ See Certain New Pneumatic Off-the-Road Tires from the People's Republic of China: Final Results of Countervailing Duty Administrative Review; 2014, 82 FR 18285 (April 18, 2017) (Final Results) and accompanying Issues and Decision Memorandum (Final Results IDM).

² See Xuzhou Xugong's letter to the Department, “Xuzhou Xugong Tyres Co., Ltd., (“Xugong”): Allegation of Ministerial Error for the Final Results of Countervailing Duty Administrative Review of New Pneumatic Off-The-Road Tires from the People's Republic of China,” April 21, 2017, (Xuzhou Xugong's Ministerial Error Allegation); the petitioners' letter to the Department, “Seventh Administrative Review of the Countervailing Duty Order on Certain New Pneumatic Off-the-Road Tires from the People's Republic of China—Titan and USW's Ministerial Error Comments,” April 24, 2017 (Petitioners' Ministerial Error Allegation).

³ See the petitioners' letter to the Department, “Seventh Administrative Review of the Countervailing Duty Order on Certain New Pneumatic Off-the-Road Tires from the People's Republic of China—Titan and USW's Reply to Xugong's Allegation of Ministerial Error,” April 26, 2017 (Petitioners' Rebuttal Comment); Xuzhou Xugong's letter to the Department, “Xuzhou Xugong Tyres Co., Ltd., (“Xugong”): Rebuttal to Petitioners' Allegation of Ministerial Error for the Final Results of Countervailing Duty Administrative Review of New Pneumatic Off-The-Road Tires from the People's Republic of China,” April 26, 2017, (Xuzhou Xugong's Rebuttal Comment); Guizhou Tyre's letter to the Department, “GTC Rebuttal Comments on Petitioners' Ministerial Error Comments (re-file per ACCESS): Seventh Administrative Review of the Countervailing Duty Order on Certain Pneumatic Off-the-Road Tires from the People's Republic of China (C-570-913),” April 28, 2017 (Guizhou Tyre's Rebuttal Comment).

Scope of the Order

The products covered by the scope are new pneumatic tires designed for off-the-road (OTR) and off-highway use. The subject merchandise is currently classifiable under Harmonized Tariff Schedule of the United States (HTSUS) subheadings: 4011.20.10.25, 4011.20.10.35, 4011.20.50.30, 4011.20.50.50, 4011.70.0010, 4011.62.00.00, 4011.80.1020, 4011.90.10, 4011.70.0050, 4011.80.1010, 4011.80.1020, 4011.80.2010, 4011.80.2020, 4011.80.8010, and 4011.80.8020. While HTSUS subheadings are provided for convenience and customs purposes, our written description of the scope, which is contained in the Issues and Decision Memorandum accompanying the Final Results, is dispositive.⁴

⁴ For a full description of the scope of the order, see Final Results IDM.

Ministerial Errors

Section 751(h) of the Act, and 19 CFR 351.224(f) define a “ministerial error” as an error “in addition, subtraction, or other arithmetic function, clerical error resulting from inaccurate copying, duplication, or the like, and any other similar type of unintentional error which the Secretary considers ministerial.” The Department finds that one of the ministerial errors alleged by the petitioners constitutes a ministerial error within the meaning of 19 CFR 351.224(f).⁵ Specifically, we made a ministerial error with regard to the selection of a synthetic rubber benchmark for the calculation of the provison of synthetic rubber at less than adequate remuneration for Guizhou Tyre and Xuzhou Xugong. For a complete discussion of these alleged errors, see the Response to Ministerial Error Allegations.⁶

⁵ See Memorandum, “Response to Ministerial Error Allegations in the Final Results” (Response to Ministerial Error Allegations) dated concurrently with this notice.

⁶ Id.

In accordance with section 751(h) of the Act and 19 CFR 351.224(e), we are amending the Final Results.⁷ Specifically, we are amending the net subsidy rates for Guizhou Tyre, Xuzhou Xugong, and the 44 companies for which a review was requested that were not selected as mandatory respondents (the non-selected companies).⁸ The revised net subsidy rates are provided below.

⁷ See Final Results, 82 FR at 18285.

⁸ Consistent with the Final Results, see 82 at 18286, for the non-selected respondents, we assigned to the non-selected respondents the simple average of the amended net subsidy rates calculated for Guizhou Tyre and Xuzhou Xugong. We are using a simple, rather than a weighted, average due to inconsistent units of measure in the publicly ranged quantity and value data provided by Guizhou Tyre and Xuzhou Xugong.

Amended Final Results

As a result of correcting the ministerial errors, we determine that Guizhou Tyre's, Xuzhou Xugong's and the non-selected companies' total net countervailable subsidy rates for the period January 1, 2014, through December 31, 2014, are as follows:

Manufacturer/exporter | Subsidy rate (percent ad valorem)
Guizhou Tyre Co., Ltd. and/or Guizhou Tyre Import and Export Co., Ltd. | 37.57
Xuzhou Xugong Tyres Co. Ltd. | 57.13
Non Selected Companies ⁹ | 47.35

Assessment Rates/Cash Deposits

The Department intends to issue appropriate assessment instructions to U.S. Customs and Border Protection (CBP) 15 days after the date of publication of these amended final results of review, to liquidate shipments of subject merchandise produced and/or exported by the respondent listed above entered, or withdrawn from, warehouses for consumption on or after January 1, 2014, through December 31, 2014. On May 10, 12, and 23, 2017, the U.S. Court of International Trade preliminarily enjoined liquidation of certain entries that are subject to the Final Results.¹⁰ Accordingly, the Department will not instruct CBP to assess countervailing duties on those enjoined entries pending resolution of the associated litigation.

⁹ Appendix II of the Final Results provides a list of the non-selected companies that are assigned this rate. See Final Results, 82 at 18286-87.

¹⁰ The U.S. Court of International Trade issued the related preliminary injunctions in case numbers 17-00101, 17-00105, and 17-00117, which are now consolidated, along with case number 17-00120, under lead case 17-00101.

The Department also intends to instruct CBP to collect cash deposits of estimated countervailing duties, in the amount shown above for the companies listed above, on shipments of subject merchandise entered, or withdrawn from, warehouses for consumption on or after April 18, 2017, the date of publication of the Final Results. For all non-reviewed firms, we will instruct CBP to continue to collect cash deposits at the most-recent company-specific or all-others rate applicable to the company, as appropriate. These cash deposit requirements, when imposed, shall remain in effect until further notice.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations performed for these amended final results to interested parties within five business days of the date of the publication of this notice in accordance with 19 CFR 351.224(b).

We are issuing and publishing these results in accordance with sections 751(h) and 777(i)(1) of the Act, and 19 CFR 351.224(e).

Dated: August 21, 2017.
Gary Taverman,
Deputy Assistant Secretary for Antidumping and Countervailing Duty Operations, performing the non-exclusive functions and duties of the Assistant Secretary for Enforcement and Compliance.

[FR Doc. 2017-18045 Filed 8-24-17; 8:45 am]

BILLING CODE 3510-DS-P